DEPARTMENT OF AGRICULTURE

Forest Service

Mendocino Resource Advisory Committee

AGENCY: Forest Service, USDA.

ACTION: Notice of meeting.

SUMMARY: The Mendocino County Resource Advisory Committee will meet April 29, 2005, (RAC), in Willits, California. Agenda items to be covered include: (1) Approval of minutes, (2) Public comment, (3) Sub-committees (4) Discussion/Approval of projects (5) Matters before the group-discussion/action (6) Next agenda and meeting date.

DATES: The meeting will be held on April 29, 2005 from 9 a.m. to 12 noon.

ADDRESSES: The meeting will be held at the Mendocino County Museum, located at 400 E. Commercial St., Willits, California.

FOR FURTHER INFORMATION CONTACT: Roberta Hurt, Committee Coordinator, USDA, Mendocino National Forest, Covelo Ranger District, 78150 Covelo Road, Covelo CA 95428. (707) 983-8503; e-mail, rhurt@fs.fed.us.

SUPPLEMENTARY INFORMATION: The meeting is open to the public. Persons who wish to bring matters to the attention of the committee may file written statements with the Committee staff by April 15, 2005. Public comments will have the opportunity to address the committee at the meeting.

Dated: April 6, 2005.
Blaine Baker,
Designated Federal Official.

[FR Doc. 05-7457 Filed 4-13-05; 8:45 am]

BILLING CODE 3410-11-M